DEPARTMENT OF AGRICULTURE

Forest Service

Meeting of the Land Between The Lakes Advisory Board

AGENCY: Forest Service, USDA.

ACTION: Notice of meeting.

SUMMARY: The Land Between The Lakes Advisory Board will hold a meeting on Thursday, October 25, 2001. Notice of this meeting is given under the Federal Advisory Committee Act, 5 U.S.C. App.2.

The meeting agenda includes the following:

(1) Welcome, Introductions, Agenda Review.

(2) Protection Act—Brainstorming Typical Trust Fund Projects.

(3) Discussion on Trust Fund Criteria.

(4) Board Feedback on Environmental Education Goals and Visions.

(5) National, Regional, and Local Recreational Use Information.

(6) Public Participation in Planning.

(7) Discussion of Potential LBL Public Participation Methods.

The meeting is open to the public. Written comments are invited and may be mailed to: William P. Lisowsky, Area Supervisor, Land Between The Lakes, 100 Van Morgan Drive, Golden Pond, Kentucky 42211. Written comments must be received at Land Between The Lakes by October 18, 2001, in order for copies to be provided to the members at the meeting. Board members will review written comments received, and at their request, oral clarification may be requested at a future meeting.

DATES: The meeting will be held on Thursday, October 25, 2001, 8:30 a.m. to 4:00 p.m., CDT.

ADDRESSES: The meeting will be held at the Lake Barkley State Resort Park and will be open to the public.

For further information contact: Sharon Byers, Advisory Board Liaison, Land Between The Lakes, 100 Van Morgan Drive, Golden Pond, Kentucky 42211, 270-924-2002.

SUPPLEMENTARY INFORMATION: None.

Dated: September 21, 2001.
William P. Lisowsky,
Area Supervisor, Land Between The Lakes.

[FR Doc. 01-24464 Filed 9-28-01; 8:45 am]

BILLING CODE 3410-11-P